DEPARTMENT OF ENERGY

Federal Energy Regulatory Commission

[Project Nos. 2601-068; 2603-050]

Northbrook Carolina Hydro II, LLC; HydroLand Carolinas I, LLC; Notice of Effectiveness of Withdrawal of Applications To Transfer Licenses

On May 13, 2021, Northbrook Carolina Hydro II, LLC (Northbrook) and HydroLand Carolinas I, LLC (Hydroland) jointly filed applications to transfer the licenses for the Bryson Hydroelectric Project No. 2601 and Franklin Hydroelectric Project No. 2603. On January 21, 2022, Northbrook and HydroLand jointly filed a notice of withdrawal of their applications to transfer the licenses for the Bryson Hydroelectric Project No. 2601 and Franklin Hydroelectric Project No. 2603. The projects are located on the Oconaluftee and Little Tennessee rivers in Swain and Macon counties, North Carolina.

No motion in opposition to the notice of the withdrawal has been filed, and the Commission has taken no action to disallow the withdrawal. Pursuant to Rule 216(b) of the Commission's Rules of Practice and Procedure,¹ the withdrawal of the transfer of licenses became effective on February 5, 2022, and these proceedings are hereby terminated.

¹ 18 CFR 385.216(b) (2021).

Dated: February 9, 2022.
Kimberly D. Bose,
Secretary.

[FR Doc. 2022-03218 Filed 2-14-22; 8:45 am]

BILLING CODE 6717-01-P